FEDERAL MINE SAFETY AND HEALTH REVIEW COMMISSION

Sunshine Act Meeting

July 5, 2001.

TIME AND DATE: 10:00 a.m., Thursday, July 19, 2001.

PLACE: Room 6005, 6th Floor, 1730 K Street, NW., Washington, DC.

STATUS: Open.

MATTERS TO BE CONSIDERED: The Commission will consider and act upon the following:

1. Alcoa Alumina & Chemical, LLC, Docket No. CENT 2000-101-M (Issues include whether a milling operation is a surface mine for purposes of 30 C.F.R. Part 48, subpart B).

Any person attending an open meeting who requires special accessibility features and/or auxiliary aids, such as sign language interpreters, must inform the Commission in advance of those needs. Subject to 29 C.F.R. 2706.150(a)(3) and 2706.160(d).

CONTACT PERSON FOR MORE INFO: Jean Ellen, (202) 653-5629/(202) 708-9300 for TDD Relay/1-800-877-8339 for toll free.

Jean H. Ellen,
Chief Docket Clerk.

[FR Doc. 01-17445 Filed 7-9-01; 1:02 pm]

BILLING CODE 6735-01-M